DEPARTMENT OF EDUCATION

[CFDA Nos. 84.133S and 84.017S]

Office of Special Education and Rehabilitative Services (OSERS) and the Office of Postsecondary Education (OPE); Small Business Innovation Research (SBIR) Program—Phase I Notice Inviting Grant Applications for New Awards for Fiscal Year (FY) 2003

Purpose of Program: The purpose of this program is to stimulate technological innovation in the private sector, strengthen the role of small business in meeting Federal research or research and development (R/R&D) needs, increase the commercial application of Department of Education (ED) supported research results, and improve the return on investment from Federally-funded research for economic and social benefits to the Nation.

For FY 2003, we encourage applicants to present activities that focus on the invitational priorities in the Priorities section of this application notice.

Eligible Applicants: Each organization submitting an application must qualify as a small business concern as defined by the Small Business Administration (SBA) at the time of the award. This definition is included in the application package.

Firms with strong research capabilities in educational and assistive technologies, science, or engineering in any of the priority areas listed are encouraged to participate. Consultative or other arrangements between these firms and universities or other non-profit organizations are permitted, but the small business must serve as the grantee.

If it appears that an applicant organization does not meet the eligibility requirements, we will request an evaluation by the SBA. Under circumstances in which eligibility is unclear, we will not make an SBIR award until the SBA makes a determination.

Applications Available: April 3, 2003.

Deadline for Transmittal of Applications: June 3, 2003.

Estimated Available Funds: Up to $4,176,000 for new Phase I awards.

The estimated amount of funds available for new Phase I awards is based upon the estimated threshold SBIR allocation for OSERS and OPE, minus prior commitments for Phase II continuation awards. The actual funds available could be less, should an office make any new Phase II awards in FY 2003.

Estimated Average Size of Awards: Up to $75,000 for Priority 1 and $60,000 for Priority 2.

Maximum Award: We will reject any application that proposes a budget exceeding $75,000 for Priority 1 or $60,000 for Priority 2 for a project period of up to 6 months.

Estimated Number of Awards: 25.

Note: The Department is not bound by any estimates in this notice.

Project Period: Up to 6 months.

Page Limits: The application narrative is where you, the applicant, address the selection criteria that reviewers use to evaluate your application. You must limit your application narrative to the equivalent of no more than 25 pages, excluding any documentation of prior multiple Phase II awards, if applicable; and required forms. The following standards should be used:

• A “page” is 8.5″ x 11″, on one side only, with 1″ margins at the top, bottom, and both sides.

• Single space all text in the application narrative, including titles, headings, footnotes, quotations, references, and captions, as well as all text in charts, tables, figures, and graphs.

• Use a font that is either 12-point or larger or no smaller that 10 pitch (characters per inch). Standard black type should be used to permit photocopying.

• Draw all graphs, diagrams, tables, and charts in black ink. Do not include glossy photographs or materials that cannot be photocopied in the body of the application.

The application package will provide instructions for completing all components to be included in the application. Each application must include an application cover sheet (ED Standard Form 424); budget requirements (ED Form 524) and other required forms; an abstract, certifications, and statements; a technical content project narrative; and related application(s) or award(s) and documentation of multiple Phase II awards, if applicable.

We will reject your application if—

• You apply these standards and exceed the page limit; or

• You apply other standards and exceed the equivalent of the page limit.

Applicable Statutes and Regulations

(a) Statutes. The Small Business Reauthorization Act of 2000, Pub. L. 106-554 (15 U.S.C. 631 and 638); Title II of the Rehabilitation Act of 1973, as amended, Pub. L. 105-220 (29 U.S.C. 760-764); Title VI, Section 605 of the Higher Education Act, as amended (20 U.S.C 1125).

(b) Regulations—General Applicability. The Education Department General Administrative Regulations (EDGAR) in 34 CFR parts 74, 75, 77, 81, 82, 85, 97, and 98.

Note on Peer Review Procedures: OSERS and OPE will apply requirements that are contained in 29 U.S.C. 760 and 762(f).

Priorities

For FY 2003, we have selected 7 invitational priorities for the SBIR program. SBIR projects are encouraged to look to the future by exploring uses of technology to ensure equal access to education and promote educational excellence throughout the Nation.

The application package will include a number of examples to illustrate the kinds of activities that could be funded under each priority. Specific examples are listed only as examples of advanced applications or basic research of interest to us, and they are not to be interpreted as exclusive. We intend to provide sufficient flexibility to obtain the greatest degree of creativity and innovation possible, consistent with overall SBIR and ED program objectives.

An application must be limited to one priority listed in this notice. When an application is relevant to more than one priority, the applicant must decide which priority is most relevant and submit it under that priority only. However, there is no limitation on the number of different applications that an applicant may submit under this competition, even to the same priority. A firm may submit separate applications on different priorities, or different applications on the same priority, but each application should respond to only one priority. Duplicate applications will be returned without review.

Invitational Priorities

We are particularly interested in applications that meet one of the following priorities. Under 34 CFR 75.105(c)(1) we do not give an application that meets one of these priorities a competitive or absolute preference over other applications.

CFDA Number 84.133S: The Office of Special Education and Rehabilitative Services (OSERS)

Priority 1—This priority supports research to develop methods, procedures, and rehabilitation technology that maximize the full inclusion and integration into society, employment, independent living, family support, and economic and social self-sufficiency of individuals with disabilities, especially individuals with the most significant disabilities; or improve the effectiveness of services authorized under the Rehabilitation Act of 1973, as amended.

The following six invitational priorities relate to innovative research utilizing new technologies (including nanotechnologies and biotechnologies) to address the needs of individuals with disabilities and their families.

Invitational Priority 1—Development of Technology to Support Access or Promote Integration of Individuals with Disabilities in the Community, Workplace, or Educational Setting.

Invitational Priority 2—Development of Technology to Enhance Sensory or Motor Function of Individuals with Disabilities.

Invitational Priority 3—Development of Technology to Improve School to Work Transition and Employment Outcomes for Individuals with Disabilities.

Invitational Priority 4—Development of Technology to Promote Community Integration or Support Independent Living for Individuals with Disabilities.

Invitational Priority 5—Development of Technology to Support Early Intervention for Infants, Toddlers, and Small Children.

Invitational Priority 6—Development of Technology to Support Service Delivery, Training, or Evaluation of Interventions in the Clinical or Community-Based Rehabilitation Settings.

CFDA Number 84.017S: The Office of Postsecondary Education (OPE)

Priority 2—This priority supports research that contributes to achieving the purposes of part A of Title VI of the Higher Education Act—International Education Program.

Invitational Priority 7—Development of Interactive CD-ROMs in the Pashto and Farsi (Iranian) Languages with Glossaries, for use in Multi-Platforms (e.g., PC, Mac) at the 1 to 1+ Proficiency Levels according to the ACTFL-ILR Proficiency Scales. The language materials must include items drawn from native speakers and from mass information media, including recent events and authentic cultural materials. The overall objective would be the creation of highly practical communicative instruments for the two languages.

Selection Criteria: Under 34 CFR 75.210, we use the following selection criteria to evaluate applications for new grants under this competition. The maximum score for all of these criteria is 100 points. The maximum score for each criterion is indicated in parentheses.

(a) Significance (25 points).

(b) Quality of the Project Design (50 points).

(c) Quality of Project Personnel (15 points).

(d) Adequacy of Resources (10 points).

We will make awards based upon these selection criteria and the availability of funds. In the evaluation and handling of applications, we will make every effort to protect the confidentiality of the application and any evaluations.

Application Procedures

The Government Paperwork Elimination Act (GPEA) of 1998, (Pub. L. 105-277) and the Federal Financial Assistance Management Improvement Act of 1999, (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

We are requiring that applications for grants for FY 2003 under Phase I SBIR program be submitted electronically using e-Application available through the Education Department's e-GRANTS system. The e-GRANTS system is accessible through its portal page at: http://e-grants.ed.gov.

Applicants who are unable to submit an application through the e-GRANTS system may apply for a waiver to the electronic submission requirement. To apply for a waiver, applicants must explain the reason or reasons that prevent them from using the Internet to submit their applications. The reasons must be outlined in a letter addressed to: Priority 1: Kristi Wilson, Office of Special Education and Rehabilitative Services, U.S. Department of Education, 330 “C” Street, SW., room 3433—MES, Washington, DC 20202-2704; and, for Priority 2: José Martinez, Office of Postsecondary Education, U.S. Department of Education, 1990 K Street, NW., room 6016, Washington, DC 20006-8521. We must receive your letter no later than two weeks before the closing date.

Any application that receives a waiver to the electronic submission requirement will be given the same consideration in the review process as an electronic application.

Pilot Project for Electronic Submission of Applications

In FY 2003, the U.S. Department of Education is continuing to expand its pilot project for electronic submission of applications to include additional formula grant programs and additional discretionary grant competitions. The FY 2003 Phase I SBIR program [CFDA 84.133S and 84.017S] is one of the programs included in the pilot project. If you are an applicant under the Phase I SBIR program, you must submit your application to us in electronic format or receive a waiver.

The pilot project involves the use of the Electronic Grant Application System (e-Application). Users of e-Application will be entering data on-line while completing their applications. You may not e-mail a soft copy of a grant application to us. The data you enter on-line will be saved into a database. We request your participation in e-Application. We shall continue to evaluate its success and solicit suggestions for improvement.

If you participate in e-Application, please note the following:

• You will not receive additional point value because you submit a grant application in electronic format, nor will we penalize you if you submit an application in paper format. (Submission of applications in paper format is only acceptable if a waiver is granted as described above.) When you enter the e-Application system, you will find information about its hours of operation.

• You must submit all documents electronically, including the Application for Federal Education Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on all other forms at a later date.

• Closing Date Extension in Case of System Unavailability: If you are prevented from submitting your application on the closing date because the e-Application system is unavailable, we will grant you an extension of one business day in order to transmit your application electronically, by mail, or by hand delivery. For us to grant this extension—

1. You must be a registered user of e-Application, and have initiated an e-Application for this competition; and

2. (a) The e-Application system must be unavailable for 60 minutes or more between the hours of 8:30 a.m. and 3:30 p.m., Washington, DC time, on the deadline date; or

(b) The e-Application system must be unavailable for any period of time during the last hour of operation (that is, for any period of time between 3:30 and 4:30 p.m., Washington, DC time) on the deadline date.

The Department must acknowledge and confirm these periods of unavailability before granting you an extension. To request this extension you must contact either (1) the person listed elsewhere in this notice under FOR FURTHER INFORMATION CONTACT or (2) the e-GRANTS help desk at 1-888-336-8930.

We have included additional information about the e-Application pilot project (see Parity Guidelines between Paper and Electronic Applications) in the application package.

SUPPLEMENTARY INFORMATION:

Background

The Small Business Reauthorization Act (the “Act”) of 2000 was enacted on December 21, 2000. The Act requires certain agencies, including the Department of Education, to establish SBIR programs by reserving a statutory percentage of their extramural research and development budgets to be awarded to small business concerns for research or R&D through a uniform, highly competitive three-phase process.

The three phases of the SBIR program are:

Phase I: Phase I is to determine, insofar as possible, the scientific or technical merit and feasibility of ideas submitted under the SBIR program. The application should concentrate on research that will significantly contribute to proving the scientific or technical feasibility of the approach or concept and that would be prerequisite to further ED support in Phase II.

Phase II: Phase II is to expand on the results of and to further pursue the development of Phase I projects. Phase II is the principal research or R&D effort. It requires a more comprehensive application, outlining the effort in detail including the commercial potential. Phase II applicants must be Phase I awardees with approaches that appear sufficiently promising as a result of Phase I. Awards are for periods up to 2 years in amounts up to $500,000 for Priority 1 awardees and $300,000 for Priority 2 awardees.

Phase III: In Phase III, the small business must use non-SBIR capital to pursue commercial applications of the research or research and development. Also, under Phase III, Federal agencies may award non-SBIR follow-on funding for products or processes that meet the needs of those agencies.

For Applications and Further Information Contact: For General Information: Lee Eiden, U.S. Department of Education, 555 New Jersey Avenue, NW., room 508D, Washington, DC 20208-5644. Telephone (202) 219-2004 or via Internet: lee.eiden@ed.gov.

For Priority 1 (OSERS): Kristi Wilson, U.S. Department of Education, 330 “C” Street, SW., room 3433, Washington, DC 20202-2572. Telephone (202) 260-0988 or via Internet: kristi.wilson@ed.gov.

For Priority 2 (OPE): José Martinez, U.S. Department of Education, 555 New Jersey Avenue, NW., room 6016, 1990 K Street, NW., Washington, DC 20006-8521. Telephone (202) 502-7635 or via Internet: jose.martinez@ed.gov.

If you use a telecommunications device for the deaf (TDD), you may call the Federal Information Relay Service (FIRS) at 1-800-877-8339.

Individuals with disabilities may obtain this document in an alternative format (e.g., Braille, large print, audiotape, or computer diskette) on request to either of the program contact persons listed under For Applications and Further Information Contact.

Individuals with disabilities may obtain a copy of the application package in an alternative format by contacting one of the contact persons listed under For Applications and Further Information Contact. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on the GPO Access at: http://www.access.gpo.gov/nara/index.html.

Program Authority: Pub. L. 106-554 (The Small Business Reauthorization Act of 2000); Pub. L. 105-220 (Title II of the Rehabilitation Act of 1973, as amended, Title VI of the Higher Education Act).

Dated: March 31, 2003.
Robert H. Pasternack,
Assistant Secretary for Special Education and Rehabilitative Services.
Sally L. Stroup,
Assistant Secretary for Postsecondary Education.

[FR Doc. 03-8130 Filed 4-2-03; 8:45 am]

BILLING CODE 4000-01-P